FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Mitigation Directorate, Federal Emergency Management Agency, 500 C Street SW., Washington, DC 20472, (202) 646-3461, or (e-mail) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR part 10, Environmental Consideration. No environmental impact assessment has been prepared.

Regulatory Flexibility Act

The Associate Director, Mitigation Directorate, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 67

Administrative practice and procedure, Flood insurance, Reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD)
FLORIDA
Kissimmee (City), Osceola County (FEMA Docket No. 7279)
East City Canal:
At confluence with Lake Tohopekaliga | *57
Approximately 700 feet upstream of West Vine Street | *68
West City Canal:
Confluence with Lake Tohopekaliga | *57
At confluence with East City Canal | *68
Shingle Creek:
Approximately 1.14 miles upstream of CSX Transportation | *66
Approximately 0.74 mile upstream of State Road 530 | *73
Maps available for inspection at the Kissimmee City Hall, Engineering Department, 2nd Floor, 101 North Church Street, Kissimmee, Florida.
———
Osceola County (Unincorporated Areas) (FEMA Docket No. 7279)
Peg Horn Slough:
Approximately 150 feet upstream of confluence with St. Cloud Canal (Canal 31) | **61
Approximately 950 feet upstream of Missouri Avenue | **72
C-33 Canal:
Confluence with Lake Gentry | **66
Confluence of Alligator Lake | **66
Canoe Creek (C-34 Canal):
Downstream side of Canoe Creek Road (SR 523) | **56
At confluence with Lake Gentry | **66
WPA Canal:
At confluence with Lake Tohopekaliga | **57
Approximately 0.9 mile upstream of West New Nolte Road | **73
West City Canal:
Confluence with Lake Tohopekaliga | **57
Downstream side of U.S. Route 17/92 | **58
Shingle Creek:
Confluence with Lake Tohopekaliga | **57
Approximately 200 feet upstream of Osceola Parkway | **76
West Branch Shingle Creek:
Just downstream of Poinciana Boulevard | **67
Approximately 0.8 mile upstream of Scott Boulevard | **71
West Branch Shingle: Creek Tributary:
At confluence with West Branch Shingle Creek | **65
Approximately 400 feet upstream of Poinciana Boulevard | **67
St. Johns River:
Approximately 0.7 mile downstream of downstream county boundary | **17
Approximately 20.5 miles upstream of downstream county boundary | **19
Lake Hatchineha:
Entire shoreline within county | **56
Alligator Lake:
Entire shoreline within county | **66
Lake Gentry:
Entire shoreline within county | **66
Brick Lake:
Entire shoreline within county | **66
Pearl Lake:
Entire shoreline within county | **66
Lake Lizzy:
Entire shoreline within county | **66
Sardine Lake:
Entire shoreline within county | **66
Live Oak Lake:
Entire shoreline within county | **66
Trout Lake:
Entire shoreline within county | **66
Lake Joel:
Entire shoreline within county | **63
Lake Preston:
Entire shoreline within county | **63
Lake Myrtle:
Entire shoreline within county | **63
Lake Bullock:
Entire shoreline within county | **66
Lake Center:
Entire shoreline within county | **66
Coon Lake:
Entire shoreline within county | **66
Reedy Creek Tributary No. 1:
Approximately 7,000 feet downstream of Marigold Avenue | **65
Approximately 0.45 mile upstream of San Miguel Road | **68
Reedy Creek Tributary No. 2:
Approximately 4,430 feet downstream of Marigold Avenue | **66
Approximately 870 feet upstream of Marigold Avenue | **67
Reedy Creek Tributary No. 3:
Approximately 0.75 mile downstream of Doverplum Avenue | **63
Downstream side of San Remo Road | **68
Lake Davenport:
Entire shoreline within county | **112
Davenport Creek:
Approximately 1 mile downstream of State Route 545 | **80
Downstream side of Oak Island Road | **108
Davenport Creek Tributary No. 1:
At confluence with Davenport Creek | **107
At the upstream side of North Goodman Road | **112
Davenport Creek Tributary No. 2:
At confluence with Davenport Creek | **106
Approximately 0.91 mile upstream of confluence with Davenport Creek | **107
**North American Vertical Datum of 1988
Maps available for inspection at the County Administrative Building, Engineering Department, Room 249, 17 South Vernon Avenue, Kissimmee, Florida.
———
St. Cloud (City), Osceola County (FEMA Docket No. 7279)
Peg Horn Slough:
Approximately 1,975 feet downstream of Kissimmee Park Road | *62
Approximately 150 feet downstream of Missouri Avenue | *70
WPA Canal:
Upstream side of Old Canoe Creek Road | *68
At St. Cloud Airfield | *73
Maps available for inspection at the Municipal Services Complex, Public Works Department, 2901 17th Street, St. Cloud, Florida.
GEORGIA
Atlanta (City), DeKalb County (FEMA Docket No. D-7502)
Lullwater Creek:
Approximately 150 feet upstream of downstream Lullwater Parkway crossing | *894
Approximately 1,100 feet upstream of upstream Lullwater Parkway crossing | *911
South Fork Peachtree Creek:
Approximately 2,200 feet downstream of Johnson Road | *830
Approximately 1,755 feet upstream of Johnson Road | *836
Maps available for inspection at the City of Atlanta Site Development Office, 55 Trinity Avenue, S.W., Atlanta, Georgia.
———
Bloomingdale (City), Chatham County (FEMA Docket No. D-7502)
Tributary 2:
At confluence with Pipemakers Canal | *19
At a point just upstream of Southern Railway | *23
Maps available for inspection at the Bloomingdale City Hall, 8 West Highway 80, Bloomingdale, Georgia.
———
Chamblee (City), Decatur County (FEMA Docket No. D-7502)
North Fork Peachtree Creek Tributary B:
Approximately 575 feet upstream of Buford Highway | *913
Approximately 950 feet upstream of Buford Highway | *915
Maps available for inspection at the Chamblee City Hall, 5468 Peachtree Road, Chamblee, Georgia.
———
Clarkston (City), DeKalb County (FEMA Docket No. D-7502)
South Fork Peachtree Creek:
Approximately 225 feet upstream of Interstate Route 285 | *941
Approximately 50 feet upstream of the upstream corporate limits | *962
Maps available for inspection at the Clarkston City Hall, 3921 Church Street, Clarkston, Georgia.
———
Decatur (City), DeKalb County (FEMA Docket No. D-7502)
Peavine Creek:
Approximately 70 feet downstream of Peavine Creek Tributary | *933
Approximately 30 feet downstream of Peavine Creek Tributary | *934
Maps available for inspection at the City of Decatur Engineering Department, 2635 Talley Street, Decatur, Georgia.
———
DeKalb County (Unincorporated Areas) FEMA Docket No. D-7502)
North Fork Peachtree Creek Tributary D-2:
Approximately 150 feet downstream of Briarcliff Road | *875
Approximately 500 feet upstream of Aspen Drive | *966
North Fork Peachtree Creek Tributary B:
At confluence with North Fork Peachtree Creek | *861
Approximately 575 feet upstream of Buford Highway | *913
North Fork Peachtree Creek Tributary C:
At confluence with North Fork Peachtree Creek | *914
Approximately 2,480 feet upstream of Lynnray Drive | *982
South Fork Peachtree Creek Tributary C:
At confluence with South Fork Peachtree Creek | *905
Approximately 300 feet upstream of North Arcadia Avenue | *966
South Form Peachtree Creek Tributary B:
At confluence with South Fork Peachtree Creek | *988
Approximately 800 feet upstream of Pine Valley Road | *1,071
North Fork Peachtree Creek Tributary D-1:
Approximately 80 feet upstream of the confluence with North Fork Peachtree Creek | *864
Approximately 900 feet upstream of Greenoaks Circle | *988
North Fork Peachtree Creek Tributary A:
At confluence with North Fork Peachtree Creek | *849
Upstream side of Eighth Street | *926
North Fork Peachtree Creek:
At downstream county boundary | *820
Approximately 0.7 mile upstream of Pleasantdale Road | *924
South Fork Peachtree Creek:
At county boundary | *828
Approximately 3,300 feet upstream of Elmdale Drive | *1,063
North Fork Peachtree Creek Tributary D-3:
At confluence with North Fork Peachtree Creek Tributary D-1 | *918
Approximately 0.4 mile upstream of Greenbrook Way | *968
Peavine Creek:
At confluence with South Fork Peachtree Creek | *840
At Scott Boulevard | *952
Peachtree Branch:
At confluence with North Fork Peachtree Creek | *887
Approximately 1.5 mile upstream of Interstate Route 285 | *966
South Fork Peachtree Creek Tributary A:
At confluence with South Fork Peachtree Creek | *978
Approximately 2,250 feet upstream of Woburn Drive | *1,040
Perimeter Creek:
At confluence with Nancy Creek | *870
Approximately 90 feet downstream of Arlington Drive | *1,058
Nancy Creek:
Approximately 800 feet downstream of Evergreen Drive | *853
Approximately 25 feet downstream of Laurelwood Road | *983
Lullwater Creek:
At confluence with Peavine Creek | *869
Approximately 150 feet upstream of downstream Lullwater Parkway | *894
Henderson Mill Creek:
At confluence with Peachtree Creek | *890
Approximately 0.77 mile upstream of Interstate Route 285 | *1,006
North Fork Nancy Creek:
At confluence with Nancy Creek | *876
Approximately 525 feet upstream of confluence with Nancy Creek | *876
Panthers Branch:
A point approximately 815 feet upstream of Rock Springs Road | *786
A point approximately 1,200 feet upstream of Thompson Mill Road | *808
Fowler Branch:
At confluence with Cobbs Creek | *804
Approximately 0.4 mile upstream of confluence with Cobbs Creek | *804
Nancy Creek Tributary A:
At confluence with Nancy Creek | *931
Downstream side of Peachford Road | *932
Nancy Creek Tributary B:
At confluence with Nancy Creek | *929
Approximately 1,225 feet upstream of confluence with Nancy Creek | *929
Honey Creek:
Approximately 1,175 feet downstream of Honey Creek Tributary A | *767
Approximately 200 feet downstream of Honey Creek Tributary A | *770
North Fork Peachtree Creek Tributary No. 2:
Approximately 1,600 feet downstream of English Oak Drive | *943
Approximately 375 feet downstream of English Oak Drive | *953
South Fork Peachtree Creek Tributary:
Approximately 225 feet downstream of North Decatur Road | *902
Approximately 50 feet upstream of Landover Drive | *908
Maps available for inspection at the DeKalb County Roads and Drainage Department, 4305 Memorial Drive, Decatur, Georgia.
———
Doraville (City), DeKalb County (FEMA Docket No. D-7502)
Nancy Creek:
At Tilly Mill Road | *953
Approximately 1,450 feet upstream of Tilly Mill Road | *958
Maps available for inspection at the Doraville City Hall, 3725 Park Avenue, Doraville, Georgia.
MAINE
Benton (Town), Kennebec County (FEMA Docket No. D-7502)
Sebasticook River:
At downstream corporate limits | *61
Approximately 1,450 feet downstream from corporate limits | *108
Maps available for inspection at the Benton Town Office, 1279 Clinton Avenue, Benton, Maine.
———
Waterville (City), Kennebec County (FEMA Docket No. D-7502)
Kennebec River:
At downstream corporate limits | *56
Approximately 1,990 feet upstream of confluence of Holland Brook | *92
Messalonskee Stream:
At confluence with Kennebec River | *58
At Automatic Project Dam | *79
Maps available for inspection at the Waterville City Hall, 1 Common Street, Waterville, Maine.
———
Winslow (Town), Kennebec County (FEMA Docket No. D-7502)
Kennebec River:
At downstream corporate limits | *56
Approximately 200 feet above upstream corporate limits | *92
Sebasticook River:
At confluence with Kennebec River | *61
At upstream corporate limits | *61
Maps available for inspection at the Town of Winslow Assessor's Office, 16 Benton Avenue, Winslow, Maine.
NEW YORK
Litchfield (Town), Herkimer County (FEMA Docket No. D-7502)
Steele Creek:
Approximately 440 feet downstream of the most downstream crossing of State Route 51 | *703
Approximately 150 feet upstream of Jordanville Road | *1,213
Maps available for inspection at the Litchfield Town Clerk's Office, 1250 Albany Road, Claysville, New York.
NORTH CAROLINA
Burke County (Unincorporated Areas) (FEMA Docket No. D-7502)
Drowning Creek:
A point approximately 500 feet downstream of Cape Hickory Road | *969
A point approximately 0.86 mile upstream of the confluence of Drowning Creek Tributary 2 | *1,002
Drowning Creek Tributary 1:
At the confluence with Drowning Creek | *980
A point approximately 700 feet upstream of Wilson Road | *1,026
Drowning Creek Tributary 2:
At the confluence with Drowning Creek | *989
A point approximately 1.11 miles upstream of the confluence of Drowning Creek Tributary 3 | *1,045
Drowning Creek Tributary 3:
At the confluence with Drowning Creek Tributary 2 | *1,006
A point approximately 1,450 feet upstream of Tex's Fish Camp Road | *1,024
Henry Fork:
A point approximately 1.27 miles downstream of Henry River Road | *927
A point approximately 1.02 miles downstream of Henry River Road | *928
Maps available for inspection at the Burke County Community Development Department, Avery Avenue Government Building, 200 Avery Avenue, Morganton, North Carolina.
PENNSYLVANIA
Allen (Township), Northampton County (FEMA Docket No. 7307)
Lehigh River:
Approximately 1.03 miles upstream of State Route 329 | *304
Approximately 1.02 miles downstream of State Route 145 | *321
Catasauqua Creek:
A point approximately 0.52 mile downstream of dam | *303
Approximately 150 feet upstream of Private Road | *326
Hokendauqua Creek:
Approximately 0.4 mile downstream of State Route 329 | *321
Approximately 1,320 feet upstream of State Route 329 | *329
Maps available for inspection at the Allen Township Hall, 4714 Indian Trail Road, Northampton, Pennsylvania.
———
Bethlehem (City), Northampton County (FEMA Docket 7307)
Lehigh River:
Just downstream of Freemansburg Highway bridge | *223
Approximately 0.18 mile upstream of CONRAIL Railroad | *236
Saucon Creek:
At the confluence of Lehigh River | *224
At the centerline of Friedensville Road | *277
Maps available for inspection at the Bethlehem City Hall, Planning Office, 10 East Church Street, Bethlehem, Pennsylvania.
———
Bethlehem (Township), Northampton County (FEMA Docket No. 7307)
Lehigh River:
Approximately 1.97 miles upstream of Chain Dam | *210
Approximately 0.8 mile downstream of Freemansburg Highway bridge | *221
Maps available for inspection at the Bethlehem Township Municipal Building, 4225 Easton Avenue, Bethlehem, Pennsylvania.
———
East Allen (Township), Northampton County (FEMA Docket No. 7307)
Monocacy Creek:
Downstream of Mill Street | *406
Approximately 1,000 feet downstream of Mill Street | *406
Maps available for inspection at the East Allen Township Offices, 5344 Nor-Bath Boulevard, Northampton, Pennsylvania.
———
Easton (City), Northampton County (FEMA Docket No. 7307)
Lehigh River:
Approximately 528 feet downstream of Easton Dam | *195
Approximately 1.55 miles upstream of Chain Dam | *208
Delaware River:
Approximately 1 mile upstream of Interstate 78 | *191
Approximately 1.23 miles upstream of confluence with Bushkill Creek | *199
Maps available for inspection at the Easton City Hall, 1 South Third Street, Easton, Pennsylvania.
———
Forks (Township), Northampton County (FEMA Docket No. 7307)
Delaware River:
Approximately 1.16 miles upstream of confluence with Bushkill Creek | *199
Approximately 0.54 mile downstream of confluence with Mud Run | *206
Maps available for inspection at the Forks Township Hall, 1606 Sullivan Trail, Easton, Pennsylvania.
———
Freemansburg (Borough), Northampton County (FEMA Docket No. 7307)
Lehigh River:
Approximately 420 feet upstream of confluence with Nancy Creek | *222
Approximately 1.26 miles downstream of confluence with Monocacy Creek | *226
Maps available for inspection at the Freemansburg Borough Hall, 600 Monroe Street, Freemansburg, Pennsylvania.
———
Glendon (Borough), Northampton County (FEMA Docket No. 7307)
Lehigh River:
Approximately 0.31 mile downstream of Glendon Parkway | *195
Approximately 0.27 mile upstream of Chain Dam | *203
Maps available for inspection at the Glendon Borough Hall, 24 Franklin Street, Easton, Pennsylvania.
———
Hellertown (Borough), Northampton County (FEMA Docket No. 7307
Saucon Creek:
Approximately 1,435 feet downstream of confluence of Black River | *260
Approximately 540 feet downstream of Meadows Road | *296
Maps available for inspection at the Hellertown Borough Municipal Building, 685 Main Street, Hellertown, Pennsylvania.
———
Lehigh (Township), Northampton County (FEMA Docket No. 7307
Lehigh River:
Approximately 1.02 miles downstream of State Route 145 | *321
At the county boundary | *388
Maps available for inspection at the Lehigh Township Municipal Building, 1069 Municipal Road, Walnutport, Pennsylvania.
———
Lower Mount Bethel (Township), Northampton County (FEMA Docket No. 7307
Delaware River:
Approximately 0.44 mile downstream of confluence with Mud Run | *207
Just downstream of the Riverton-Belvidere Highway bridge | *255
Maps available for inspection at the Lower Mount Bethel Township Hall, 6984 South Delaware Drive, Martins Creek, Pennsylvania.
———
Lower Saucon (Township), Northampton County (FEMA Docket No. 7307
Lehigh River:
Approximately 1.61 miles upstream of Chain Dam | *209
Just upstream of Freemansburg Highway bridge | *223
Saucon Creek:
Approximately 50 feet upstream of Friedensville Road | *278
At the county boundary | *337
Maps available for inspection at the Lower Saucon Township Hall, 3700 Old Philadelphia Pike, Bethlehem, Pennsylvania.
———
North Catasauqua (Borough), Northampton County (FEMA Docket No. 7307
Lehigh River:
At the county boundary | *281
Approximately 1,900 feet downstream of confluence with Dry Run | *287
Maps available for inspection at the North Catasauqua Borough Hall, 1066 Fourth Street, North Catasauqua, Pennsylvania.
———
Northampton (Borough), Northampton County (FEMA Docket No. 7307
Lehigh River:
Approximately 1,900 feet downstream of confluence with Dry Run | *287
Approximately 1.16 miles upstream of Route 329 | *305
Maps available for inspection at the Northampton Borough Office, 1401 Laubach Avenue, Northampton, Pennsylvania.
———
Palmer (Township), Northampton County (FEMA Docket No. 7307)
Lehigh River:
Approximately 0.63 mile downstream of Chain Dam | *195
Approximately 1.71 miles upstream of Chain Dam | *209
Maps available for inspection at the Palmer Township Hall, 3 Weller Place, Palmer, Pennsylvania.
———
Plainfield (Township), Northampton County (FEMA Docket No. 7307)
West Branch Little Bushkill Creek:
Approximately 460 feet downstream of State Route 512 | *682
Approximately 300 feet downstream of Male Street | *689
Maps available for inspection at the Plainfield Township Hall, 6292 Sullivan Trail, Nazareth, Pennsylvania.
———
Portland (Borough), Northampton County (FEMA Docket No. 7307)
Delaware River:
Approximately 0.36 mile downstream of confluence with Jacoby Creek | *294
Approximately 0.60 mile upstream of confluence with Jacoby Creek | *299
Maps available for inspection at the Portland Borough Building, 1 Division Street, Portland, Pennsylvania.
———
Upper Mt. Bethel (Township), Northampton County (FEMA Docket No. 7307)
Delaware River:
Just downstream of Riverton-Belvidere Highway bridge | *255
Approximately 110 feet downstream of the county boundary | *313
Maps available for inspection at the Mt. Bethel Township Hall, 387 Ye Olde Highway, Mt. Bethel, Pennsylvania.
———
Walnutport (Borough), Northampton County (FEMA Docket No. 7307)
Lehigh River:
Approximately 1.05 miles downstream of Route 946 (Main Street) | *358
Approximately 0.4 mile upstream of Route 946 (Main Street) | *367
Maps available for inspection at the Walnutport Borough Offices, 417 Lincoln Avenue, Walnutport, Pennsylvania.
———
West Easton (Borough), Northampton County (FEMA Docket No. 7307)
Lehigh River:
Approximately 0.88 mile downstream of Glendon Parkway | *195
Approximately 50 feet downstream side of 25th Street | *195
Maps available for inspection at the West Easton Borough Hall, 237 7th Street, West Easton, Pennsylvania.
———
Williams (Township), Northampton County (FEMA Docket No. 7307)
Lehigh River:
Approximately 0.27 mile upstream of Chain Dam | *203
Approximately 1.61 miles upstream of Chain Dam | *209
Delaware River:
At the county boundary | 165
Approximately 1 mile upstream of Interstate 78 | *191
Maps available for inspection at the Williams Township Municipal Building, 655 Cider Press Road, Easton, Pennsylvania.
———
Wilson (Borough), Northampton County (FEMA Docket No. 7307)
Lehigh River:
Approximately 500 feet downstream of 25th Street | *195
Approximately 950 feet upstream of 25th Street | *195
Maps available for inspection at the Wilson Borough Hall, 2040 Hay Terrace, Easton, Pennsylvania.
TENNESSEE
Belle Meade (City), Davidson County (FEMA Docket No. 7263)
Richland Creek:
Approximately 100 feet upstream of the confluence of Sugartree Creek | *461
Approximately 550 feet upstream of Belle Meade Boulevard | *537
Belle Meade Branch:
At confluence with Richland Creek | *529
Approximately 60 feet upstream of Warner Place | *557
Sugartree Creek:
At the confluence with Richland Creek | *461
At Valley Forge Drive | *477
Vaughn's Gap Branch:
Approximately 50 feet upstream of Harding Place | *507
Approximately 580 feet upstream of Harding Place | *509
Jocelyn Hollow Branch:
At confluence with Richland Creek | *494
Just upstream of U.S. Route 705 | *494
Maps available for inspection at the Belle Meade City Hall, 4705 Harding Road, Nashville, Tennessee.
———
Berry Hill (City), Davidson County (FEMA Docket No. 7263)
East Fork Browns Creek:
At the confluence with Browns Creek | *473
Approximately 0.6 mile upstream of Berry Road | *496
Browns Creek:
Approximately 950 feet upstream of Craighead Street | *469
Approximately 265 feet upstream of CSX Transportation | *478
Maps available for inspection at the Berry Hill City Hall, 698 Thompson Lane, Berry Hill, Tennessee.
———
Goodlettsville (City), Davidson and Sumner Counties (FEMA Docket No. 7263)
Dry Creek:
Approximately 100 feet downstream of CSX Transportation | *443
Approximately 2,110 feet upstream of Dickerson Pike | *516
Mansker Creek:
Approximately 2.07 miles upstream of confluence with Cumberland River | *432
Approximately 2.84 miles upstream of confluence with Cumberland River | *432
Maps available for inspection at the Goodlettsville City Hall, 105 South Main Street, Goodlettsville, Tennessee.
———
Lakewood (City), Davidson County (FEMA Docket No. 7263)
Cumberland River:
Approximately 1,000 feet south of Gail Drive and Rifle Range Road intersection | *428
Approximately 1,500 feet west of Meadow Street and Ray Avenue intersection | *428
Maps available for inspection at the Lakewood City Hall, 3401 Hadley Avenue, Old Hickory, Tennessee.
———
Nashville and Davidson County Metropolitan Government (FEMA Docket No. 7263)
Richland Creek:
At confluence with Cumberland River | *409
Approximately 0.5 mile upstream of Harding Place | *515
McCrory Creek:
At confluence with Stones River | *425
Approximately 0.3 mile upstream of Couchville Pike | *508
North Fork Ewing Creek:
Approximately 130 feet upstream of the confluence with Ewing Creek | *469
Approximately 50 feet downstream of Dickerson Pike | *542
North Fork Ewing Creek Tributary:
At confluence with North Fork Ewing Creek | *530
Approximately 0.4 mile upstream of confluence with North Fork Ewing Creek | *549
Vhoins Branch:
Approximately 0.08 mile upstream of the confluence with Ewing Creek | *454
Approximately 0.8 mile upstream of Knights Drive | *506
Eaton Creek:
At confluence with Whites Creek | *412
Approximately 0.87 mile upstream of Sulphur Creek Road | *494
Pages Branch Tributary A:
Approximately 15 feet upstream of confluence with Pages Branch | *468
Approximately 530 feet upstream of Jones Avenue | *574
Earthman Fork:
At confluence with Whites Creek | *462
Approximately 2.0 miles upstream of Old Hickory Boulevard | *521
Elm Hill Tributary:
At confluence with McCrory Creek | *448
Approximately 1,800 feet upstream of Timber Valley Drive | *506
Jocelyn Hollow Branch:
Upstream side of U.S. Route 705 | *494
Approximately 370 feet upstream of Robin Hill Road | *570
Sugartree Creek:
At confluence with Richland Creek | *461
Approximately 0.14 mile upstream of Hillsboro Pike | *573
Vaughn's Gap Branch:
At confluence with Richland Creek | *499
Approximately 0.2 mile upstream of Park Lane | *581
Whites Creek:
At confluence with Cumberland River | *412
Approximately 0.8 mile upstream of Ingram Road | *531
Whites Creek Tributary:
At the confluence with Whites Creek | *430
Approximately 1,267 feet upstream of Rowan Drive | *471
Drake Branch:
At confluence with Whites Creek | *415
Approximately 0.58 mile upstream of Kings Lane | *472
Dry Fork Creek:
At confluence with Whites Creek | *449
Approximately 1.21 miles upstream of Dry Fork Road | *501
West Fork Browns Creek:
At confluence with Browns Creek | *510
Approximately 50 feet upstream of Sewanee Drive | *604
Middle Fork Browns Creek:
At confluence with Browns Creek | *510
Just upstream of Woodmont Boulevard | *510
East Fork Browns Creek:
At downstream corporate limits | *495
Approximately 475 feet upstream of Armory Drive | *524
Browns Creek:
At confluence with Cumberland River | *418
At confluence of Middle and West Forks Browns Creek | *510
East Fork Hamilton Creek:
At confluence with Percy Priest Reservoir | *506
Approximately 685 feet upstream of Bell Road | *570
Little Creek:
At confluence with Whites Creek | *477
Approximately 0.43 mile upstream of Old Hickory Boulevard | *583
Pages Branch:
At confluence with Cumberland River | *415
Approximately 0.1 mile upstream of Oakwood Avenue | *538
Pulley Tributary:
At confluence with McCrory Creek | *487
Approximately 0.3 mile upstream of Reynolds Road | *541
Tributary No. 1 to East Fork Hamilton Creek:
At confluence with East Fork Hamilton Creek | *518
Approximately 0.22 mile upstream of Hamilton Church Road | *568
Tributary No. 2 to East Fork Hamilton Creek:
At confluence with East Fork Hamilton Creek | *506
Approximately 100 feet upstream of Anderson Road | *564
Tributary to Richland Creek:
At confluence with Richland Creek | *454
Approximately 0.2 mile upstream of Bowling Avenue | *510
Dry Creek:
At confluence with Cumberland River | *431
Downstream side of Dickerson Pike | *497
Cumberland River:
Approximately 6.6 miles downstream of confluence of Overall Creek | *405
At downstream side of Old Hickory Dam | *432
Mill Creek:
At the confluence with Cumberland River | *419
Approximately 1,214 feet upstream of Concord Road | *557
J. Percy Priest Reservoir:
Entire shoreline within community | *506
Pages Branch Tributary B:
Approximately 0.44 mile upstream of confluence with Pages Branch | *479
Approximately 80 feet downstream of Brick Church Pike | *507
Stones River:
At confluence with Cumberland River | *425
Approximately 1,584 feet upstream of Interstate Highway 40 (at J. Percy Priest Dam) | *425
Windemere Branch:
At confluence with Cumberland River | *419
Approximately 0.25 mile upstream of Broley Parkway | *419
Gibson Creek:
At the confluence with Cumberland River | *422
Approximately 0.27 mile downstream of Gallatin Pike | *422
Gibson Creek Tributary:
At the confluence with Gibson Creek | *422
Approximately 50 feet downstream of Madison Boulevard | *422
Mansker Creek:
At confluence with Cumberland River | *432
Approximately 0.39 mile downstream of Long Hollow Pike | *432
Collins Creek:
At confluence with Mill Creek | *517
Approximately 0.1 mile downstream of Bell Road | *517
Ewing Creek:
At confluence with Whites Creek | *432
Approximately 0.32 mile downstream of Whites Creek Pike | *433
Sevenmile Creek:
At confluence with Mill Creek | *468
Approximately 260 feet upstream of Antioch Pike | *468
Sorghum Branch:
At confluence with Mill Creek | *475
Approximately 100 feet downstream of Antioch Pike | *475
Maps available for inspection at the Metropolitan Government of Nashville and Davidson County, 720 South Fifth Street, Nashville, Tennessee.
———
Oak Hill (City), Davidson County (FEMA Docket No. 7263)
West Fork Browns Creek:
Approximately 1,100 feet downstream of Gateway Lane | *604
Approximately 370 feet upstream of Tyne Boulevard | *650
Middle Fork Browns Creek:
Approximately 50 feet upstream of Woodmont Boulevard | *511
Approximately 211 feet upstream of Oak Valley Lane | *627
Maps available for inspection at the Oak Hill City Hall, 5548 Franklin Road, Nashville, Tennessee.
VERMONT
Plymouth (Town), Windsor County (FEMA Docket No. D-7502)
Black River:
Approximately 650 feet downstream of Tyson-Reading Road | *1,067
At Black Pond Dam | *1,337
Maps available for inspection at the Town of Plymouth Clerk's Vault, Plymouth Union, Plymouth, Vermont.

(Catalog of Federal Domestic Assistance No. 83.100, “Flood Insurance.”)

Dated: November 17, 2000.
Michael J. Armstrong,
Associate Director for Mitigation.

[FR Doc. 00-30561 Filed 11-29-00; 8:45 am]

BILLING CODE 6718-04-P